DEPARTMENT OF TRANSPORTATION

Federal Aviation Administration

14 CFR Part 39

[Docket No. FAA-2020-0673; Product Identifier 2020-NM-076-AD; Amendment 39-21395; AD 2021-02-12]

RIN 2120-AA64

Airworthiness Directives; Airbus SAS Airplanes

AGENCY: Federal Aviation Administration (FAA), DOT.

ACTION: Final rule; correction.

SUMMARY: The FAA is correcting an airworthiness directive (AD) that published in the Federal Register. That AD applies to all Airbus SAS Model A330-200 series airplanes, Model A330-200 Freighter series airplanes, Model A330-300 series airplanes, Model A330-900 series airplanes, Model A340-200 series airplanes, Model A340-300 series airplanes, Model A340-500 series airplanes, Model A340-600 series airplanes, Model A380-800 series airplanes; and Model A350-941 and -1041 airplanes. As published, multiple references to a European Union Aviation Safety Agency (EASA) AD number are incorrect throughout the AD. This document corrects those errors. In all other respects, the original document remains the same.

DATES: This correction is effective March 30, 2021. The effective date of AD 2021-02-12 remains March 30, 2021.

The Director of the Federal Register approved the incorporation by reference of a certain publication listed in this AD as of March 30, 2021 (86 FR 10787, February 23, 2021).

ADDRESSES: For material incorporated by reference (IBR) in this AD, contact EASA, Konrad-Adenauer-Ufer 3, 50668 Cologne, Germany; telephone +49 221 8999 000; email ADs@easa.europa.eu; internet www.easa.europa.eu. You may find this IBR material on the EASA website at https://ad.easa.europa.eu. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2020-0673.

Examining the AD Docket

You may examine the AD docket on the internet at https://www.regulations.gov by searching for and locating Docket No. FAA-2020-0673; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Dan Rodina, Aerospace Engineer, Large Aircraft Section, International Validation Branch, FAA, 2200 South 216th St., Des Moines, WA 98198; phone and fax: 206-231-3225; email: dan.rodina@faa.gov.

SUPPLEMENTARY INFORMATION: AD 2021-02-12, Amendment 39-21395 (86 FR 10787, February 23, 2021) (AD 2021-02-12), currently requires repair of each affected part, or replacement with a serviceable part, as specified in an EASA AD. AD 2021-02-12 applies to all Airbus SAS Model A330-200 series airplanes, Model A330-200 Freighter series airplanes, Model A330-300 series airplanes, Model A330-900 series airplanes, Model A340-200 series airplanes, Model A340-300 series airplanes, Model A340-500 series airplanes, Model A340-600 series airplanes, Model A380-800 series airplanes; and Model A350-941 and -1041 airplanes.

Need for the Correction

As published, the EASA AD number in the preamble and regulatory text is incorrectly identified as “EASA AD 2020-100R1,” where the correct identification is “EASA AD 2020-0100R1.”

Related Service Information Under 1 CFR Part 51

EASA AD 2020-0100R1, dated November 4, 2020, describes procedures for repair of each affected part, or replacement with a serviceable part. This material is reasonably available because the interested parties have access to it through their normal course of business or by the means identified in the ADDRESSES section

Correction of Publication

This document corrects multiple errors and correctly adds the AD as an amendment to 14 CFR 39.13. Although no other part of the preamble or regulatory information has been corrected, the FAA is publishing the entire rule in the Federal Register.

The effective date of this AD remains March 30, 2021.

Since this action only corrects references to an EASA AD number, it has no adverse economic impact and imposes no additional burden on any person. Therefore, the FAA has determined that notice and public procedures are unnecessary.

List of Subjects in 14 CFR Part 39

Air transportation, Aircraft, Aviation safety, Incorporation by reference, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

39.13 [Corrected]

2. The FAA amends § 39.13 by revising the following new airworthiness directive to read:

2021-02-12 Airbus SAS: Amendment 39-21395; Docket No. FAA-2020-0673; Product Identifier 2020-NM-076-AD.

(a) Effective Date

This airworthiness directive (AD) is effective March 30, 2021.

(b) Affected ADs

None.

(c) Applicability

This AD applies to all Airbus SAS airplanes identified in paragraphs (c)(1) through (10) of this AD, certificated in any category.

(1) Model A330-201, -202, -203, -223, and -243 airplanes.

(2) Model A330-223F and -243F airplanes.

(3) Model A330-301, -302, -303, -321, -322, -323, -341, -342, and -343 airplanes.

(4) Model A330-941 airplanes.

(5) Model A340-211, -212, and -213 airplanes.

(6) Model A340-311, -312, and -313 airplanes.

(7) Model A340-541 airplanes.

(8) Model A340-642 airplanes.

(9) Model A350-941 and -1041 airplanes.

(10) Model A380-841, -842, and -861 airplanes.

(d) Subject

Air Transport Association (ATA) of America Code 25, Equipment/furnishings.

(e) Reason

This AD was prompted by a report of a quality issue with a certain repair method of damage-through honeycomb core cargo linings by speed patches applied to both sides. The FAA is issuing this AD to address reduced ability of repaired linings to contain smoke or fire, resulting in an increased risk of an uncontained fire in the cargo compartment and consequent structural damage to the airplane.

(f) Compliance

Comply with this AD within the compliance times specified, unless already done.

(g) Requirements

Except as specified in paragraph (h) of this AD: Comply with all required actions and compliance times specified in, and in accordance with, European Union Aviation Safety Agency (EASA) AD 2020-0100R1, dated November 4, 2020 (EASA AD 2020-0100R1).

(h) Exceptions to EASA AD 2020-0100R1

(1) Where EASA AD 2020-0100R1 refers to its effective date, this AD requires using the effective date of this AD.

(2) Where EASA AD 2020-0100R1 refers to “19 May 2020 [the effective date of EASA AD 2020-0100 at original issue],” this AD requires using the effective date of this AD.

(3) Where task Aircraft Maintenance Manual (AMM) A330-A-25-XX-3743-02001-690A-C specified in Airbus Service Bulletin A330-25-3743, dated September 23, 2019, states the measured dimension shall be equal to or more than “30 mm (1.81 in),” this AD requires using the measured dimension of “30 mm (1.18 in).”

(4) Where AMM task A330-A-25-XX-3743-01001-520A-A of Airbus Service Bulletin A330-25-3743, dated September 23, 2019, states, “For the FWD cargo-compartment, refer to Ref. AMM Task 25-54-00-000-801,” this AD requires using, “For the FWD cargo-compartment, refer to Ref. AMM Task 25-52-00-000-801.”

(5) The “Remarks” section of EASA AD 2020-0100R1 does not apply to this AD.

(i) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (j) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): Except as required by paragraph (i)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

For more information about this AD, contact Dan Rodina, Aerospace Engineer, Large Aircraft Section, International Validation Branch, FAA, 2200 South 216th St., Des Moines, WA 98198; phone and fax: 206-231-3225; email: dan.rodina@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on March 30, 2021 (86 FR 10787, February 23, 2021).

(i) European Union Aviation Safety Agency (EASA) AD 2020-0100R1, dated November 4, 2020.

(ii) [Reserved]

(4) For EASA AD 2020-0100R1, contact the EASA, Konrad-Adenauer-Ufer 3, 50668 Cologne, Germany; telephone +49 221 8999 000; email ADs@easa.europa.eu; internet www.easa.europa.eu. You may find this EASA AD on the EASA website at https://ad.easa.europa.eu.

(5) You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-0673.

(6) You may view this material that is incorporated by reference at the National Archives and Records Administration (NARA). For information on the availability of this material at NARA, email fedreg.legal@nara.gov, or go to: https://www.archives.gov/federal-register/cfr/ibr-locations.html.

Issued on March 3, 2021.
Gaetano A. Sciortino,
Deputy Director for Strategic Initiatives, Compliance & Airworthiness Division, Aircraft Certification Service.

[FR Doc. 2021-04784 Filed 3-9-21; 8:45 am]

BILLING CODE 4910-13-P